DEPARTMENT OF THE TREASURY

Senior Executive Service Departmental Offices Performance Review Board

AGENCY: Treasury Department.

ACTION: Notice of members of the Departmental Offices Performances Review Board

SUMMARY: This notice announces the appointment of members of the Departmental Offices Performance Review Board (PRB). The purpose of this Board is to review and make recommendations concerning proposed performance appraisals, ratings, bonuses and other appropriate personnel actions for incumbents of SES positions in the Departmental Offices, excluding the Legal Division. The Board will perform PRB functions for other bureau positions if requested.

DATES: Membership is effective on the date of this notice.

FOR FURTHER INFORMATION CONTACT: Julia J. Markham or Kimberly Jackson, Office of Executive Resources, 1500 Pennsylvania Avenue NW, ATTN: 1722 Eye Street, 9th Floor, Washington, DC 20220, Telephone: 202-622-0774.

SUPPLEMENTARY INFORMATION: Composition of Departmental Offices PRB: The Board shall consist of at least three members. In the case of an appraisal of a career appointee, more than half the members shall consist of career appointees. The names and titles of the Board members are as follows:

Names for Federal Register Publication

• John M. Farley, Director, Executive Office for Asset Forfeiture

• John H. Battle, Associate Director for Resource Management, Office of Foreign Assets Control

• Daniel Moger, III, Principal Deputy Assistant Secretary, Terrorist Financing and Financial Crimes

• Elizabeth Shortino, Director, International Monetary Policy

• Michael Kaplan, Deputy Assistant Secretary, Western Hemisphere and South Asia

• Douglas M. Bell, Deputy Assistant Secretary for Trade and Investment Policy

• J. Trevor Norris, Deputy Assistant Secretary for Human Resources and Chief Human Capital Officer

• Carole Y. Banks, Deputy Chief Financial Officer

• Jodie Harris, Director, Small Business, Community Development and Affordable Housing

• Gary Grippo, Deputy Assistant Secretary, Government Finance Policy

• Brian Peretti, Director for Critical Infrastructure Protection and Compliance Policy

• Luke Ballman, Deputy Assistant Secretary for Legislative Affairs

• Robert S. Dohner, Deputy Assistant Secretary for International Economic Analysis

• Edith Brashares, Director for Individual Business and International Taxation

Dated: October 10, 2018.
Julia J. Markham,
Director, Office of Executive Resources.

[FR Doc. 2018-23430 Filed 10-25-18; 8:45 am]

BILLING CODE 4810-25-P